NATIONAL LABOR RELATIONS BOARD

Appointments of Individuals to Serve as Members of Performance Review Boards

5 U.S.C. 4314 (c) (4) requires that the appointments of individuals to serve as members of performance review boards be published in the Federal Register. Therefore, in compliance with this requirement, notice is hereby given that the individuals whose names and position titles appear below have been appointed to serve as members of performance review boards in the National Labor Relations Board for the rating year beginning October 1, 2010 and ending September 30, 2011.

Name and Title

William B. Cowen—Solicitor

Kathleen A. Nixon—Deputy Chief Counsel to the Chairman

Gary W. Shinners—Deputy Executive Secretary

Robert Schiff—Executive Assistant to the Chairman

Barry J. Kearney—Associate General Counsel, Division of Advice

Anne G. Purcell—Associate General Counsel, Division of Operations Management

Gloria Joseph—Director of Administration, Division of Administration

John H. Ferguson—Associate General Counsel, Division of Enforcement Litigation

Dated: Washington, DC, October 13, 2011.
By Direction of the Board.
Gary W. Shinners,
Deputy Executive Secretary.

[FR Doc. 2011-26951 Filed 10-17-11; 8:45 am]

BILLING CODE 7545-01-P